DEPARTMENT OF ENERGY

Federal Energy Regulatory Commission

Combined Notice of Filings #1

Take notice that the Commission received the following electric corporate filings:

Docket Numbers: EC17-105-000.

Applicants: CP Bloom Wind LLC.

Description: Application for Authorization under Section 203 of the Federal Power Act of CP Bloom Wind LLC.

Filed Date: 4/20/17.

Accession Number: 20170420-5237.

Comments Due: 5 p.m. ET 5/11/17.

Take notice that the Commission received the following electric rate filings:

Docket Numbers: ER17-335-002.

Applicants: PJM Interconnection, L.L.C.

Description: Compliance filing: Erata to Compliance Filing in Docket No. ER17-335-001 to be effective 1/9/2017.

Filed Date: 4/20/17.

Accession Number: 20170420-5202.

Comments Due: 5 p.m. ET 5/11/17.

Docket Numbers: ER15-794-004.

Applicants: Catalyst Paper Operations Inc.

Description: Compliance filing: Change in Status Filing to be effective 1/27/2017.

Filed Date: 4/21/17.

Accession Number: 20170421-5223.

Comments Due: 5 p.m. ET 5/12/17.

Docket Numbers: ER17-1445-000.

Applicants: Tucson Electric Power Company.

Description: § 205(d) Rate Filing: Concurrence to PNM RS No. 45 PETA (TEP RS No. 47) to be effective 6/11/2017.

Filed Date: 4/20/17.

Accession Number: 20170420-5190.

Comments Due: 5 p.m. ET 5/11/17.

Docket Numbers: ER17-1446-000.

Applicants: Midcontinent Independent System Operator, Inc.

Description: Notification of Tariff Discrepancy and Request for Limited Tariff Waiver of Midcontinent Independent System Operator, Inc.

Filed Date: 4/20/17.

Accession Number: 20170420-5241.

Comments Due: 5 p.m. ET 5/11/17.

Docket Numbers: ER17-1447-000.

Applicants: Southwest Power Pool, Inc.

Description: § 205(d) Rate Filing: 1630R7 The Empire District Electric Company NITSA and NOA to be effective 4/1/2017.

Filed Date: 4/21/17.

Accession Number: 20170421-5036.

Comments Due: 5 p.m. ET 5/12/17.

Docket Numbers: ER17-1448-000.

Applicants: DifWind Farms Limited I.

Description: § 205(d) Rate Filing: CIS and SW Category 2 Seller Request to be effective 4/22/2017.

Filed Date: 4/21/17.

Accession Number: 20170421-5063.

Comments Due: 5 p.m. ET 5/12/17.

Docket Numbers: ER17-1449-000.

Applicants: DifWind Farms Limited II.

Description: § 205(d) Rate Filing: CIS and SW Category 2 Seller Request to be effective 4/22/2017.

Filed Date: 4/21/17.

Accession Number: 20170421-5064.

Comments Due: 5 p.m. ET 5/12/17.

Docket Numbers: ER17-1450-000.

Applicants: DifWind Farms Limited V.

Description: § 205(d) Rate Filing: CIS and SW Category 2 Seller Request to be effective 4/22/2017.

Filed Date: 4/21/17.

Accession Number: 20170421-5065.

Comments Due: 5 p.m. ET 5/12/17.

Docket Numbers: ER17-1451-000.

Applicants: VPI Enterprises, LLC.

Description: § 205(d) Rate Filing: CIS and SW Category 2 Seller Request to be effective 4/22/2017.

Filed Date: 4/21/17.

Accession Number: 20170421-5066.

Comments Due: 5 p.m. ET 5/12/17.

Docket Numbers: ER17-1452-000.

Applicants: Southern California Edison Company.

Description: § 205(d) Rate Filing: Amended SGIA SEPV Mojave West Project SA No. 560 to be effective 6/21/2017.

Filed Date: 4/21/17.

Accession Number: 20170421-5067.

Comments Due: 5 p.m. ET 5/12/17.

Docket Numbers: ER17-1453-000.

Applicants: New York Independent System Operator, Inc.

Description: § 205(d) Rate Filing: 205 filing re: transmission constraint pricing revisions to be effective 6/20/2017.

Filed Date: 4/21/17.

Accession Number: 20170421-5070.

Comments Due: 5 p.m. ET 5/12/17.

Docket Numbers: ER17-1454-000.

Applicants: Midcontinent Independent System Operator, Inc.

Description: § 205(d) Rate Filing: 2017-04-21_SA 3012 Wisconsin Power & Light-ATC GIA (J390) to be effective 4/7/2017.

Filed Date: 4/21/17.

Accession Number: 20170421-5092.

Comments Due: 5 p.m. ET 5/12/17.

Docket Numbers: ER17-1455-000.

Applicants: Public Service Electric and Gas Company, PJM Interconnection, L.L.C.

Description: § 205(d) Rate Filing: PSEG submits revisions to OATT, Attachment M-2 (PSEG) to Update to General Proc. to be effective 6/21/2017.

Filed Date: 4/21/17.

Accession Number: 20170421-5102.

Comments Due: 5 p.m. ET 5/12/17.

Docket Numbers: ER17-1456-000.

Applicants: Arizona Public Service Company.

Description: § 205(d) Rate Filing: Rate Schedule No. 217, Exhibit D to be effective 6/21/2017.

Filed Date: 4/21/17.

Accession Number: 20170421-5129.

Comments Due: 5 p.m. ET 5/12/17.

Docket Numbers: ER17-1457-000.

Applicants: ITC Midwest LLC.

Description: § 205(d) Rate Filing: Cancellation of Maintenance Agreement with SMMPA to be effective 4/21/2017.

Filed Date: 4/21/17.

Accession Number: 20170421-5145.

Comments Due: 5 p.m. ET 5/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2017.
Kimberly D. Bose,
Secretary.

[FR Doc. 2017-08572 Filed 4-27-17; 8:45 am]

BILLING CODE 6717-01-P